DEPARTMENT OF DEFENSE

Department of the Air Force

Report on the Value and Effectiveness of Emergency Alternative Arrangements for the Interim Beddown of the F-22 Formal Training Unit at Eglin Air Force Base, Florida

ACTION: Notice.

SUMMARY: On June 17, 2021, the Air Force submitted a report to the Council on Environmental Quality (CEQ) that addressed the value and effectiveness of the emergency alternative arrangements for National Environmental Policy Act (NEPA) environmental review of proposed emergency response actions agreed to by the CEQ for the Department of the Air Force's (Air Force) Interim Beddown of the F-22 Formal Training Unit at Eglin Air Force Base, Florida.

ADDRESSES: Mr. Mike Spaits, Public Affairs, 96 TW/PA, 101 West D Ave., Building 1, Suite 238, Eglin AFB, FL 32542, (850) 882-7660; michael.spaits@us.af.mil.

SUPPLEMENTARY INFORMATION: On December 21, 2018, the Air Force sought CEQ approval of alternative arrangements, pursuant to 40 CFR 1506.11 for implementing the procedural provisions of the NEPA, §§ 42 U.S.C. 4321, et seq., to respond to a pilot manning crisis that presented significant national security implications. The emergency was the Air Force's need to restore training of replacement pilots for the F-22 in northwest Florida by January 31, 2019, and there was insufficient time to prepare an Environmental Impact Statement (EIS). The CEQ regulations implementing the procedural provisions of NEPA provide that when such emergency circumstances make it necessary for an agency to take an action without observing the normal procedures set forth in those regulations, the federal agency should consult with CEQ about alternative arrangements for compliance with NEPA. On December 21, 2018, CEQ concluded consultation and approved alternative arrangements pursuant to 40 CFR 1506.11. The Air Force immediately accepted the alternative arrangements, documenting this acceptance in a decision memorandum. On January 11, 2019, the Air Force announced its decision in the Federal Register (Federal Register, Vol. 84, No. 8, p. 103, January 11, 2019) to accept alternative arrangements approved by the CEQ. The Air Force's decision memorandum provides, “At the conclusion of the alternative arrangements and no later than two years from the date of the Notice of Intent (NOI) to prepare an EIS, the Air Force will provide a report to CEQ on the use of the alternative arrangements that reviews the value and effectiveness of these arrangements.” Now, at the conclusion of the alternative arrangements and approximately two years from the date of the NOI to prepare an EIS (Federal Register Vol 84, No. 58, p. 11289, March 26, 2019), the Air Force has prepared the required report on the use of the alternative arrangements that reviews their value and effectiveness. Additionally, as required in the alternative arrangements, the Air Force is providing this notice of the report in the Federal Register, local newspapers, including the Northwest Florida Daily News and the Bay Beacon, and online at https://www.eglin.af.mil/.

Adriane Paris,
Acting Air Force Federal Register Liaison Officer.

[FR Doc. 2021-16392 Filed 7-30-21; 8:45 am]

BILLING CODE 5001-10-P